DEPARTMENT OF THE INTERIOR

Fish and Wildlife Service

[FWS-R4-R-2010-N061; 40136-1265-0000-S3]

Felsenthal National Wildlife Refuge, Ashley, Bradley, and Union Counties, AR; Overflow National Wildlife Refuge, Ashley County, AR

AGENCY: Fish and Wildlife Service, Interior.

ACTION: Notice of availability: Draft comprehensive conservation plan and environmental assessment; request for comments.

SUMMARY: We, the Fish and Wildlife Service (Service), announce the availability of a draft comprehensive conservation plan and environmental assessment (Draft CCP/EA) for Felsenthal and Overflow National Wildlife Refuges (NWRs) for public review and comment. Felsenthal, Overflow, and Pond Creek NWRs are managed as a Complex. A separate CCP was prepared for Pond Creek NWR. In this Draft CCP/EA, we describe the alternative we propose to use to manage these refuges for the 15 years following approval of the final CCP.

DATES: To ensure consideration, we must receive your written comments by July 7, 2010.

ADDRESSES: You may obtain a copy of the Draft CCP/EA by contacting Mr. Bernie Peterson, via U.S. mail at Felsenthal NWR, P.O. Box 1157, Crossett, AR 71635, or via e-mail at bernie_peterson@fws.gov. Alternatively you may download the document from our Internet Site at http://southeast.fws.gov/planning under “Draft Documents.” Submit comments on the Draft CCP/EA to the above postal address or e-mail address.

FOR FURTHER INFORMATION CONTACT: Mr. Mike Dawson, Refuge Planner, telephone: 601/965-4903, Ext. 20.

SUPPLEMENTARY INFORMATION:

Introduction

With this notice, we continue the CCP process for Felsenthal and Overflow NWRs. We started the process through a notice in the Federal Register on April 2, 2008 (73 FR 17992). For more about the refuges, their purposes, and our CCP process, please see that notice.

Background

The CCP Process

The National Wildlife Refuge System Administration Act of 1966 (16 U.S.C. 668dd-668ee), as amended by the National Wildlife Refuge System Improvement Act of 1997, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Key issues addressed in the Draft CCP/EA include water management, forestry management, greentree reservoir management, threatened and endangered species management, migratory bird and waterfowl nesting habitats, hunting and fishing program management, invasive species of plants and animals, refuge access, law enforcement, and environmental education and interpretation programs.

Felsenthal NWR was established in 1975, as a result of the Corps of Engineers' Ouachita and Black Rivers Navigation Project. Geographically, the 65,000-acre refuge is located in what is known as the Felsenthal Basin, an extensive natural depression that is laced with a vast complex of sloughs, bayous, and lakes. Overflow NWR was established in 1980, to protect one of the remaining bottomland hardwood forests considered vital for maintaining mallard, wood duck, and other waterfowl populations in the Mississippi Flyway. This 13,000-acre plus refuge is a wetland complex within the watershed of Overflow Creek, which flows southerly along the length of the refuge.

CCP Alternatives, Including Our Proposed Alternative

We developed three separate alternatives for managing the refuges and chose Alternative B, Enhanced Biological and Visitor Services Management, as the proposed alternative for each. A full description of the alternatives is in the Draft CCP/EA. We summarize each alternative below.

Felsenthal NWR

Alternative A (Current Management, No Action)

Alternative A would continue current management strategies, with little or no change in resources. We would protect, maintain, and enhance 65,000 acres of refuge lands, primarily focusing on the needs of threatened and endangered species, with additional emphasis on the needs of migratory birds, resident wildlife, and migratory non-game birds. We would continue mandated activities for protection of Federally listed species. Control of nuisance wildlife populations and invasive plant species would be undertaken on an opportunistic basis. Habitat management efforts would be concentrated on forests; water, including greentree reservoirs; and open lands. We would continue the fire management program.

The Complex, made up of Felsenthal, Overflow, and Pond Creek NWRs, with the support of volunteers and friends, manages an extensive visitor services program that includes recreation, education, and outreach programs. We would maintain the current levels of wildlife-dependent recreation activities (e.g., hunting, fishing, wildlife observation, wildlife photography, and environmental education and interpretation). Felsenthal NWR has an extensive network of public use facilities including 65 miles of all-terrain vehicle (ATV) trails, 8 boat ramps, and 10 primitive campgrounds. Except for two archaeological sites, all of the refuge is open to visitors. These facilities do not interfere substantially with or detract from the achievement of wildlife conservation.

The hunting program would continue to be managed via quota hunts for white-tailed deer and turkey. Special conditions of the hunt program would continue to include the use of ATVs along designated trails. Hunters with disabilities would still be allowed to extend their use of ATVs approximately 200 yards off of designated trails. The use of dogs would continue during waterfowl, squirrel, rabbit, raccoon, and opossum hunts.

About 60 percent of total consumptive public use on the refuge is fishing. There are eight boat launching facilities with parking areas on the refuge and three boat launching facilities with parking areas off the refuge that provide lake and river access. Adequate bank fishing opportunities would continue to be made available.

We would maintain the refuge as resources allow. We would continue to manage with the following staff for the Complex: Project leader, deputy project leader, biologist, forester, park ranger (public use), fire management specialist, three forestry technicians (fire), two law enforcement officers, administrative officer, administrative support assistant, equipment operator, and heavy equipment mechanic.

Alternative B (Enhanced Biological Management and Visitor Services—Proposed Alternative)

The proposed action was selected by the Service as the alternative that best signifies the vision, goals, and purposes of the refuge. Emphasis would be on restoring and improving resources needed for wildlife and habitat management, while providing additional public use opportunities. This alternative would also allow us to provide law enforcement protection that adequately meets the needs of the refuge.

This alternative would focus on augmenting wildlife and habitat management to identify, conserve, and restore populations of native fish and wildlife species, with an emphasis on migratory birds and threatened and endangered species. This would partially be accomplished by increased monitoring of waterfowl, other migratory birds, and endemic species in order to assess and adapt management strategies and actions. The restoration of the Felsenthal South Pool would be a vital part of this proposed action and would be crucial to ensuring healthy and viable ecological communities in the greentree reservoir. This restoration would require increased water management control, invasive aquatic vegetation control, reestablishing water quality standards, and possibly reestablishing populations of game fish species. The control of nuisance wildlife populations and invasive plant species would be more aggressively managed by implementing a control plan and systematic removal.

Alternative B would enhance the visitor services opportunities by: (1) Improving the quality of fishing opportunities; (2) creating additional hunting opportunities for youth and hunters with disabilities where feasible; (3) implementing an environmental education program component for the Complex that utilizes volunteers and local schools as partners; (4) enhancing wildlife viewing and photography opportunities by implementing food plots in observational areas and evaluating the possibility of implementing an auto tour; (5) developing and implementing a visitor services management plan; and (6) enhancing personal interpretive and outreach opportunities. Volunteer programs and friends groups also would be expanded to enhance all aspects of refuge management and to increase resource availability.

In addition to the enforcement of all Federal and State laws applicable to the refuge to protect archaeological and historical sites, we would identify and develop a plan to protect all known sites. The allocation of an additional law enforcement officer to the refuge would not only provide security for these resources, but would also ensure visitor safety and public compliance with refuge regulations.

Under this alternative, additional staff needed would include: Park ranger (law enforcement), biological technician, park ranger (visitor services, environmental educator/volunteer coordinator), heavy equipment operator, and the conversion of two seasonal fire technicians to full-time employment. These positions are needed to accomplish objectives for establishing baseline data on refuge resources, for managing habitats, and for adequate protection of wildlife and visitors.

Alternative C (Enhanced Biological Management)

Alternative C would provide for the enhancement and restoration of native wildlife, fish, and plant communities and the health of those communities. This would be accomplished by maximizing wildlife and habitat management, while maintaining a portion of the current compatible public use opportunities. Threatened and endangered species would be of primary concern, but the needs of other resident and migratory wildlife would also be considered. As under Alternative B, focus would be centralized on augmenting wildlife and habitat management to identify, conserve, and restore populations of native fish and wildlife species by increased monitoring of waterfowl, other migratory birds, and endemic species in order to assess and adapt management strategies and actions. Extensive wildlife, plant, and habitat inventories would be initiated to obtain the biological information needed to implement and monitor management programs.

Habitat management would be increased to provide additional sanctuary for waterfowl, to provide additional active clusters of red-cockaded woodpeckers, to promote additional edge as a transition between habitat types for resident wildlife, and to provide additional openings for native grasslands. A minor expansion plan would be evaluated to expand the current acquisition boundary. This would allow us to expand critical or viable habitat. We would inventory and more aggressively monitor, control, and, where possible, eliminate invasive plants and nuisance wildlife through the use of staff and contracted labor.

Wildlife observation, wildlife photography, and environmental education and interpretation opportunities would continue as currently managed, but only when and where they would not conflict with wildlife management activities and objectives. The use of ATVs and campgrounds would be reduced or would require a special use permit to better control use. Night fishing and fishing tournaments would be phased out. Harvest counts for waterfowl hunting would be monitored annually to determine the species hunted. Outreach would additionally focus on providing information to the public on flooding cycles within the greentree reservoir and the importance of periodic drying cycles.

Administration plans would stress the need for increased maintenance of existing infrastructure and facilities benefitting wildlife conservation. Additional staff under this alternative would include: Park ranger (law enforcement), biological technician, biologist, heavy equipment operator, and the conversion of two seasonal fire technicians to full-time employment to accomplish objectives for establishing baseline data on refuge resources, for managing habitats, and for adequate protection of wildlife and visitors.

Overflow NWR

Alternative A (Current Management, No Action)

Alternative A would continue current management strategies, with little or no change in resources. Under this alternative, we would protect, maintain, restore, and enhance 13,973 acres of refuge lands and 2,263 additional acres included in the Oakwood Unit. We would primarily focus on the needs of migratory waterfowl, with additional emphasis on the needs of resident wildlife, migratory non-game birds, and threatened and endangered species. Control of nuisance wildlife populations and invasive plant species would be undertaken on an opportunistic basis. Habitat management efforts would be concentrated on moist-soil management, waterfowl impoundments, forest management, and crop production. We would continue cooperative farming of 400 acres.

Currently, active habitat management targeting waterfowl includes impoundments for moist-soil and crop food resource generation in open habitats, as well as greentree reservoir management in forested areas to produce complimentary food and behavioral resources. Approximately 600 acres would continue to be managed in rotation fashion in moist-soil and crops. A stop-log structure on Overflow Creek would continue to be used to manage a single 4,000-acre greentree reservoir impoundment during winter months.

Public use opportunities would continue to include hunting (e.g., waterfowl, deer, turkey, small game, woodcock, and quail), wildlife observation, wildlife photography, and limited environmental education activities. A total of 3,000 acres would continue to be protected from public intrusion during the wintering waterfowl season in areas designated as waterfowl sanctuaries.

Standard management activities at the Oakwood Unit would continue to include: (1) Disking of moist-soil units on a rotational basis; (2) monitoring seedling survival and mortality; (3) bird surveys; and (4) levee and boundary line maintenance. There are no visitor service opportunities on this unit. As compared to Overflow NWR, the Oakwood Unit is passively managed due to its location 80 miles from the refuge office.

We would maintain the refuge as resources allow, and would continue with four staff members: Refuge manager, private lands biologist, biological science technician, engineering equipment operator, and part-time biological technician. In addition, individual volunteers would continue to provide many valuable services on the refuge (e.g., monitoring the migration of Monarch butterflies, beaver trapping, trail maintenance, and waterfowl counts).

Alternative B (Enhanced Biological Management and Visitor Services—Proposed Alternative)

The proposed alternative was selected by the Service as the alternative that best signifies the vision, goals, and purposes of the refuge. Under Alternative B, the emphasis would be on restoring and improving resources needed for wildlife and habitat management, while providing additional public use opportunities. This alternative would also allow us to provide the level of law enforcement protection to adequately meet the needs of the refuge.

This alternative would focus on augmenting wildlife and habitat management to identify, conserve, and restore populations of wildlife species, with an emphasis on waterfowl, migratory birds, and resident wildlife. This would partially be accomplished by increased monitoring in order to assess and adapt management strategies and actions. Habitat management would be increased to extend the moist-soil rotation to at least four or more years to reach a condition preferred by marshbirds, to adapt flooding and water management regimes in the greentree reservoir and moist-soil units, and to implement a more intensive moist-soil management program at the Oakwood Unit (300 acres/year). Land acquisition within the approved acquisition boundary would be based on importance of the habitat for target management species and public use value. The control of nuisance wildlife populations and invasive plant species would be more aggressively managed by implementing a control plan and systematic removal.

Alternative B would enhance the refuge's visitor service opportunities by: (1) Making hunting opportunities more accessible for hunters with disabilities; (2) implementing an environmental education program component for the Complex that utilizes volunteers and local schools as partners; (3) enhancing wildlife viewing and photography opportunities by implementing food plots in observational areas and promoting ATV trails as birding trails; (4) welcoming visitors by establishing a visitor center or contact station on the refuge; (5) developing and implementing a visitor services management plan; and (6) enhancing personal interpretive and outreach opportunities. Volunteer programs and friends groups also would be expanded to enhance all aspects of refuge management and to increase resource availability.

In addition to the enforcement of all Federal and State laws applicable to the refuge to protect archaeological and historical sites, we would identify and develop a plan to protect all known sites. An additional law enforcement officer would not only provide security for these resources, but would also ensure visitor safety and public compliance with refuge regulations.

In order to accomplish the objectives for establishing baseline data on refuge resources, for managing habitats, and for adequate protection of wildlife and visitors, additional staff would include: Park ranger (law enforcement), biological technician, park ranger (environmental educator/volunteer coordinator), and heavy equipment operator.

Alternative C, Enhanced Biological Management

Alternative C would provide for the enhancement and restoration of native wildlife and plant communities and the health of those communities. This would be accomplished by maximizing wildlife and habitat management, while maintaining a portion of the current compatible public use opportunities. We would continue and enhance mandated activities for protecting threatened and endangered species. As under Alternative B, our focus would be centralized on augmenting wildlife and habitat management to identify, conserve, and restore populations of wildlife species by increased monitoring of waterfowl, other migratory birds, and endemic species in order to assess and adapt management strategies and actions. Extensive wildlife, plant, and habitat inventories would be initiated to obtain the biological information needed to implement and monitor management programs.

Habitat management would be maximized to provide additional moist-soil management and more intensive forest management. We would inventory and more aggressively monitor, control, and, where possible, eliminate invasive plants and nuisance wildlife through the use of staff and contracted labor. Land acquisitions within the approved acquisition boundary would be based on importance of the habitat for target management species. Additionally, the expansion of the Oakwood Unit to provide a right-of-way to the public would be evaluated.

Wildlife observation, wildlife photography, and environmental education and interpretation opportunities would continue as currently managed, but only when and where they would not conflict with wildlife management activities and objectives. Additionally, the opening of the Oakwood Unit to deer hunting would be evaluated and the staff offices on the refuge would be updated in lieu of a new visitor center.

Administration plans would stress the need for increased maintenance of existing infrastructure and facilities benefitting wildlife conservation. Additional staff would include: Park ranger (law enforcement), biological technician, biologist, and heavy equipment operator. These positions are needed to accomplish the objectives for establishing baseline data on resources, for managing habitats, and for adequate protection of wildlife and visitors.

Next Step

After the comment period ends, we will analyze the comments and address them.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: April 14, 2010.
Mark J. Musaus,
Acting Regional Director.

[FR Doc. 2010-13511 Filed 6-4-10; 8:45 am]

BILLING CODE 4310-55-P